DEPARTMENT OF TRANSPORTATION

Coast Guard

33 CFR Part 100

[CGD 08-99-066]

RIN 2115-AE46

Special Local Regulations: Eighth Coast Guard District Annual Marine Events

AGENCY: Coast Guard, DOT.

ACTION: Notice of proposed rulemaking.

SUMMARY: The Coast Guard proposes to revise Table 1 to 33 CFR 100.801, the list of annual marine events that occur within the Eighth Coast Guard District. This proposed revision reflects additions and deletions of annual marine events from the previously published table.

DATES: Comments and related material must reach the Coast Guard on or before May 30, 2000.

ADDRESSES: You may mail comments and related material to Commander (dl), Eighth Coast Guard District, 501 Magazine Street, New Orleans, LA 70130-3396. Commander (dl) maintains the public docket for this rulemaking. Comments and material received from the public, as well as documents indicated in this preamble as being available in the docket, will become part of this docket and will be available for inspection and copying at the District Legal Office, Room 1311, Hale Boggs Federal Building, 501 Magazine Street, New Orleans, LA. Office hours are between 8 a.m. and 4 p.m., Monday through Friday, except holidays. Comments may also be hand delivered to this address.

FOR FURTHER INFORMATION CONTACT: Project Attorney, Lieutenant Junior Grade Curtis Borland at Commander (dl), Eighth Coast Guard District, 501 Magazine Street, New Orleans, LA 70130-3396, (504) 589-6188.

SUPPLEMENTARY INFORMATION:

Request for Comments

The Coast Guard encourages interested persons to participate in this rulemaking by submitting written data, views, or arguments. Persons submitting comments should include their name and address, identify this rulemaking [CGD 08-99-066] and the specific section of this document to which each comment applies, and give a reason for each comment. The comment period for this proposed regulation is 30 days. this time period is adequate to allow local input because the events occur annually and are highly publicized. The shortened comment period will allow the full 30-day publication requirement prior to the final rule becoming effective. Please submit two copies of all comments and attachments in an unbound format, no larger than 8.5 by 11 inches, suitable for copying and electronic filing. Persons wanting acknowledgment of receipt of comments should enclose a stamped, self-addressed postcard or envelope. The Coast Guard will consider all comments received during the comment period. The Coast Guard may change this proposed rule in view of the comments.

Public Meeting

The Coast Guard plans no public hearing. Persons may request a public hearing by writing to the Project Attorney at the address under ADDRESSES explaining why one would be beneficial. If it is determined that a public hearing would aid this rulemaking, the Coast Guard will hold a public hearing at a time and place announced by a later notice in the Federal Register.

Background and Purpose

This rulemaking will update the existing list of anticipated annual marine events in the Eighth Coast Guard District, providing interested parties, mariners and recreational boaters with sufficient notice of date, time and place of these annual marine events.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

The Coast Guard expects the economic impact of this proposed rule to be so minimal that a full Regulatory Evaluation under paragraph 10e of the regulatory policies and procedures of DOT is unnecessary. The economic impact is not significant because this proposed rule serves only to update an already existing list of marine events and does not change the process for reviewing such occurrences.

Small Entities

Under the Regulatory Flexibility Act (5 U.S.C. 601-612), the Coast Guard considered whether this proposed rule would have a significant economic impact on a substantial number of small entities. The term “small entities” comprises small businesses, not-for-profit organizations that are independently owned and operated, and are not dominant in their fields, and governmental jurisdictions with populations of less than 50,000.

The Coast Guard certifies under 5 U.S.C. 605(b) that this proposed rule will not have a significant economic impact on a substantial number of small entities. The segments of the listed waterways regulated are the minimum necessary to assure the safety of life and property on or adjacent to navigable waters. These regulations are relatively brief in duration and will only affect marine traffic. If, however, you think your business, organization or governmental jurisdiction qualifies as a small entity and this proposed rule would have a significant economic impact on it, please submit a comment (see ADDRESSES) explaining why you think it qualifies and how and to what degree this proposed rule would economically affect it.

Assistance for Small Entities

Under section 213(a) of the Small Business Regulatory Enforcement Fairness Act of 1996 (Pub. L. 104-121), the Coast Guard encourages small businesses to participate in this rulemaking. The Coast Guard will assist small entities in understanding this proposed rule so that they can better evaluate the rule's effect on them. If your small business or organization is affected by this rule and you have questions concerning its provisions or options for compliance, contact Project Attorney, Lieutenant Junior Grade Curtis Borland at Commander (dl), Eighth Coast Guard District, 501 Magazine Street, New Orleans, LA 70130-3396, (504) 589-6188.

Collection of Information

No information is collected under this proposed rule. This rule complies with the Paperwork Reduction Act of 1995 (44 U.S.C. 3501-3520).

Federalism

The Coast Guard has analyzed this proposed rule under E. O. 13132 and have determined that this proposed rule does not have implications for federalism under that order.

Unfunded Mandates Reform Act

The Unfunded Mandates Reform Act of 1995 (2 U.S.C. 1531-1538) governs the issuance of Federal regulations that require unfunded mandates. An unfunded mandate is a regulation that requires a State, local, or tribal government, or the private sector, to incur direct costs without the Federal Government's having first provided the funds to pay those costs. This proposed rule would not impose an unfunded mandate.

Taking of Private Property

This proposed rule would not effect a taking of private property or otherwise have taking implications under E. O. 12630, Governmental Actions and Interference with Constitutionally Protected Property Rights.

Civil Justice Reform

This proposed rule meets applicable standards in sections 3(a) and 3(b)(2) of E. O. 12988, Civil Justice Reform, to minimize litigation, eliminate ambiguity, and reduce burden.

Protection of Children

The Coast Guard has analyzed this proposed rule under E. O. 13045, Protection of Children from Environmental Health Risks and Safety Risks. This rule is not an economically significant rule and does not concern an environmental risk to health or risk to safety that may disproportionately affect children.

Environment

The Coast Guard is proposing to revise its list of recurring marine events. The listing itself will not affect the environment. When an event application is received, the Coast Guard will conduct an environmental analysis for the event. Under figure 2-1 paragraph, (34)(h) of Coast Guard Commandant Instruction M16475.1C, this proposed revision is categorically excluded from further environmental documentation.

List of Subjects in 33 CFR Part 100

Marine safety, Navigation (water), Reporting and recordkeeping requirements, Waterways.

Final Regulations

For the reasons discussed in the preamble, the Coast Guard proposes to amend 33 CFR part 100 as follows:

PART 100—[AMENDED]

1. The authority citation for Part 100 continues to read as follows:

Authority: 33 U.S.C. 1233; 49 CFR 1.46; and 33 CFR 100.35.

2. § 100.801 Eighth Coast District Table of Annual Marine Events.

Eighth Coast Guard District Table of Annual Marine Events

Group Upper Mississippi River

1. Riverfest Power Boat Grand Prix

Sponsor: Twin City Power Boat Association

Date: 1 Day—2nd Saturday in June

Regulated Area: Upper Mississippi River miles 980.0-981.0, Little Falls, MN

2. W.A.M.S.O. Ball Fireworks

Sponsor: St. Paul Parks and Recreation

Date: 1 Day—1st or 2nd Saturday in June

Regulated Area: Upper Mississippi River miles 839.1-839.7, St. Paul, MN

3. Winona Downtown Arts & River Festival

Sponsor: Winona Downtown Cooperative

Date: 2 Days—2nd or 3rd Weekend in June

Regulated Area: Upper Mississippi River miles 725.0-726.0, Winona, MN

4. La Crosse Riverfest

Sponsor: Riverfest, Inc.

Date: 5 Days—Last Week of June or 1st Week of July

Regulated Area: Upper Mississippi River miles 698.0-699.0, La Crosse, WI

5. Fair St. Louis

Sponsor: Fair St. Louis Committee

Date: 3 Days—1st Week in July

Regulated Area: Upper Mississippi River miles 179.2-180.0, St. Louis, MO

6. Fourth of July River Front Blast

Sponsor: Alton Exposition Commission

Date: 1 Day—1st Week in July

Regulated Area: River Front Park, Upper Mississippi River miles 202.5-203.5, Alton, IL

7. Steamboat Days

Sponsor: Winona Area Jaycees

Date: 3 Days—1st Weekend in July

Regulated Area: Upper Mississippi River miles 725.0-726.0, Winona, MN

8. Independence Day Celebration

Sponsor: Marquette American Legion

Date: 2 Days—1st Week in July

Regulated Area: Upper Mississippi River miles 634.5-634.7, Marquette, IA

9. City of Redwing 4th of July Fireworks

Sponsor: City of Redwing

Date: 1 Day—4th of July

Regulated Area: Upper Mississippi River miles 790.0-791.0, Red Wing, MN

10. City of Minneapolis 4th of July Fireworks

Sponsor: City of Minneapolis

Date: 1 Day—4th of July

Regulated Area: Upper Mississippi River miles 854.7-855.8, Minneapolis, MN

11. The Great Steamboat Race

Sponsor: Delta Queen Steamboat Company

Date: 1 Day—4th of July

Regulated Area: Upper Mississippi River miles 173.6-179.2, St. Louis, MO

12. Celebrate the Bridge Regatta

Sponsor: Minneapolis Rowing Club

Date: 1 Day—2nd or 3rd Saturday in July

Regulated Area: Upper Mississippi River miles 849.8-850.4, Minneapolis, MN

13. Hastings Rivertown Days

Sponsor: Hastings Chamber of Commerce

Date: 3 Days—3rd Weekend in July

Regulated Area: Upper Mississippi River miles 813.0-815.2, Hastings, MN

14. Lumberjack Days Festival

Sponsor: St. Croix Events and/or City of Stillwater

Date: 4 Days—3rd or 4th Weekend in July

Regulated Area: Lower St. Croix River miles 22.9-23.5, Stillwater, MN

15. Minneapolis Aquatennial

Sponsor: Minneapolis Aquatennial Association

Date: 9 Days—3rd Weekend through 4th Weekend in July

Regulated Area: Upper Mississippi River miles 854.7-856.2, Minneapolis, MN

16. Big Splash Festival

Sponsor: City of Prairie du Chien and Lentzkow Racing

Date: 4 Days—3rd Weekend of July

Regulated Area: Upper Mississippi River miles 634.5-636.0, Prairie du Chien, WI

17. RiverFeast

Sponsor: Capital City Partnership d.b.a. RiverFeast

Date: 1 Day—3rd or 4th Saturday in July

Regulated Area: Upper Mississippi River miles 839.0-839.8, St. Paul, MN

18. River City Days

Sponsor: Red Wing Chamber of Commerce

Date: 2 Days—1st or 2nd Weekend in August

Regulated Area: Upper Mississippi River miles 790.0-792.0, Red Wing, MN

19. Riverboat Days

Sponsor: City of Yankton, Twin City Power Boat Association, WNAX Radio

Date: 3 Days—3rd Weekend in August

Regulated Area: Missouri River miles 805.0-806.0, Yankton, SD

20. Labor Day Celebration

Sponsor: City of McGregor Chamber of Commerce

Date: 4 Days—Last Weekend in August

Regulated Area: Upper Mississippi River miles 633.0-634.0, McGregor, IA

21. Busch Beer Drag Boat Classic

Sponsor: St. Louis Drag Boat Association

Date: 2 Days—1st or 2nd Week of September

Regulated Area: Kaskaskia River miles 28.0-29.0, New Athens, IL

22. Minnesota Orchestra on the Mississippi Fireworks Show

Sponsor: City of St. Paul Parks and Recreation

Date: 1 Day—1st or 2nd Saturday in September

Regulated Area: Upper Mississippi River miles 839.1-839.7, St. Paul, MN

Group Ohio Valley

1. Eskimo Escapades—Water Ski Race

Sponsor: Skiers of Knoxville, TN

Date: 1 Day—2nd Saturday in January

Regulated Area: Tennessee River miles 648.0-649.0, Knoxville, TN

2. Tom White Invitational—Rowing

Sponsor: Oak Ridge (Tennessee) Rowing Association

Date: 1 Day—2nd or 3rd Saturday in March

Regulated Area: Clinch River miles 49.8-51.1, Anderson County, TN

3. Thunder Over Louisville

Sponsor: Thunder Over Louisville

Date: 1 Day—3rd Saturday in April

Regulated Area: Ohio River miles 602.0-605.0, Louisville, KY

4. Marietta Invitational Rowing Regatta

Sponsor: Marietta High School

Date: 2nd Week of April

Regulated Area: Muskingum River Mile .5-1.5, Marietta, OH

5. Southeast Intercollegiate Rowing Championships—Rowing Race

Sponsor: Oak Ridge (Tennessee) Rowing Association

Date: 2 Days—3rd Weekend in April

Regulated Area: Clinch River miles 49.8-51.1, Anderson County, TN

6. Oak Ridge Scholastics—Rowing Shells

Sponsor: Oak Ridge (Tennessee) Rowing Association

Date: 1 Day—4th Saturday in April

Regulated Area: Clinch River miles 49.8-51.1, Anderson County, TN

7. Kentucky Derby Festival Great Steamboat Race

Sponsor: Kentucky Derby Festival/Belle of Louisville Operating Board

Date: 1 Day—Last Week in April or First Week in May

Regulated Area: Ohio River 597.0-604.0, Louisville, KY

8. Annual Boat Review—Marine Parade

Sponsor: Chattanooga Marine Trade Association

Date: 1 Day—1st Saturday in May

Regulated Area: Tennessee River miles 471.0-478.0, Hamilton County, TN

9. TRRA Scholastic Sprint

Sponsor: Three Rivers Rowing Association, Pittsburgh, PA

Date: 1 Day—1st Sunday in May

Regulated Area: Allegheny River miles 2.0-4.0, Pittsburgh, PA

10. UT Coaches Regatta—Rowing Race

Sponsor: Oak Ridge (Tennessee) Rowing Association

Date: 1 Day—2nd or 3rd Saturday in May

Regulated Area: Clinch River miles 49.8-51.1, Anderson County, TN

11. NCAA Regional Championships—Rowing Race

Sponsor: Oak Ridge (Tennessee) Rowing Association

Date: 1 Day—2nd or 3rd Saturday in May

Regulated Area: Clinch River miles 49.8-51.1, Anderson County, TN

12. Blessing of the Fleet—Parade of Boats

Sponsor: Jonathan Aurora Action Committee, Aurora, KY

Date: 1 Day—2nd or 3rd Weekend in May

Regulated Area: Tennessee River miles 42.0-43.0, Aurora, KY

13. West Virginia Governors Cup Regatta

Sponsor: University of Charleston

Date: 3rd Week of May

Regulated Area: Kanawha River Mile 59.5-62.0, Charleston, WV

14. Boats and Music Regatta

Sponsor: The Great Kanawha River Navy

Date: Last Week of May

Regulated Area: Kanawha River Mile 57.9-58.9, Charleston, WV

15. Albert Gallatin Regatta

Sponsor: Point Marion (Pennsylvania) Rotary Club

Date: 2 Days—Saturday & Sunday of Memorial Day Weekend

Regulated Area: Monongahela River miles 89.9-90.8, Point Marion, PA

16. West Virginia Symphony Fireworks

Sponsor: West Virginia Symphony

Date: 1st Week of June

Regulated Area: Kanawha River Mile 59.4-60.4, Charleston, WV

17. Riverbend Festival—Concerts and Fireworks

Sponsor: Friends of the Festival, Chattanooga, TN

Date: 4 Days—1st & 2nd Weekend in June

Regulated Area: Tennessee River miles 463.4-464.5, Chattanooga, TN

18. Annual Superman Celebration—Fireworks

Sponsor: Metro Chamber, Metropolis, IL

Date: 1 Day—2nd Saturday in June

Regulated Area: Ohio River miles 942.0-943.0, Metropolis, IL

19. Saint Brendan Cup Rowing Race

Sponsor: Pittsburgh Irish Rowing Club

Date: 1 Day—2nd or 3rd Saturday in June

Regulated Area: Ohio River miles 7.0-9.0, Pittsburgh, PA

20. Blessing of The Fleet

Sponsor: Pittsburgh Safe Boating Committee

Date: 1 Day—2nd or 3rd Sunday in June

Regulated Area: Allegheny River miles 0.0-0.2, Pittsburgh, PA

21. River Heritage Days Regatta And Powerboat Races

Sponsor: River Heritage Days Committee

Date: 2 Days—Saturday & Sunday—2nd or 3rd Weekend in June

Regulated Area: Ohio River miles 127.6-128.5, New Martinsville, WV

22. Picnic With the Pops

Sponsor: Huntington Symphony Orchestra

Date: 2nd or 3rd week of June

Regulated Area: Ohio River Mile 307.5-308.5, Huntington, WV

23. Point Pleasant Sternwheel Regatta and River Festival

Sponsor: Point Pleasant Sternwheel Regatta

Date: 3 Days—Last Weekend in June

Regulated Area: Ohio River miles 265.0-266.0, Point Pleasant, WV

24. Thunder On The Ohio

Sponsor: Evansville Freedom Festival

Date: 3 Days—Last Weekend in June

Regulated Area: Ohio River miles 792.0-793.0, Evansville, IN

25. Augusta Sternwheel Days

Sponsor: City of Augusta/Sternwheel Days Committee

Date: 1 Day—Last Saturday in June

Regulated Area: Ohio River miles 426.0-429.0, Augusta, KY

26. Festival On The Lake—Rowing Race

Sponsor: Oak Ridge (Tennessee) Rowing Association

Date: 2 Days—4th Weekend in June

Regulated Area: Clinch River miles 50.3-50.8, Anderson County, TN

27. Chattanooga Dam Triathlon—Lake Swim

Sponsor: Chattanooga Track Club

Date: 1 Day—4th Sunday in June

Regulated Area: Tennessee River miles 471.0-471.5, Chattanooga, TN

28. Charleston 4th of July Celebration

Sponsor: Charleston Festival Commission

Date: 1st Week of July

Regulated Area: Kanawha River Mile 50.9-51.9, Charleston, WV

29. Annual River Recreational Festival

Sponsor: Gallia County Chamber of Commerce

Date: 1st Week of July

Regulated Area: Ohio River Mile 269.0-270.0, Gallipolis, OH

30. Civic Forum Fireworks and Entertainment

Sponsor: Civic Forum

Date: 1st Week of July

Regulated Area: Ohio River Mile 355.5-356.5, Portsmouth, OH

31. Freedomfest

Sponsor: WTCR FM

Date: 1st Week of July

Regulated Area: Ohio River Mile 307.5-308.5, Huntington, WV

32. City of Pittsburgh July 4th Celebration

Sponsor: Citiparks

Date: 1 Day—4th of July

Regulated Area: Ohio River miles 0.0-0.2, Pittsburgh, PA

33. EZ Challenge Speedboat Race

Sponsor: APR Events Group, New Martinsville, WV

Date: 2 Days—Saturday & Sunday on or about 4th of July

Regulated Area: Ohio River miles 77.0-78.0, Brooke County, WV

34. St. Albans Riverfest

Sponsor: St. Albans Riverfest, Inc.

Date: 2 Days—1st Weekend in July

Regulated Area: Kanawha River miles 46.0-47.0, St. Albans, WV

35. Summer Motion Festival Tri-State Fireworks

Sponsor: Tri-State Fair and Regatta Committee

Date: 1 Day—4th of July

Regulated Area: Ohio River miles 322.4-322.6, Ashland, KY

36. Indiana Governor's Cup

Sponsor: Madison Regatta Inc.

Date: 3 Days—1st Weekend in July

Regulated Area: Ohio River miles 557.0-558.0, Madison, IN

37. The New Kensington Recreational Commission's Fireworks Display

Sponsor: New Kensington Recreation Commission

Date: One day—July 3rd

Regulated Area: Allegeheny River mile 18.3-18.7

38. Toronto 4th of July Celebration

Sponsor: Toronto 4th of July Committee

Date: One day—July 3rd

Regulated Area: Ohio River between mile 58.1-59.1

39. Wheeling Symphony Conducky Derby

Sponsor: Wheeling Symphony Society Inc.

Date: One day—July 4th

Regulated Area: Ohio River between mile 90.2-90.7

40. Independence Day Celebration—Fireworks

Sponsor: Paducah Parks Department

Date: 1 Day—4th of July

Regulated Area: Ohio River miles 935.5-936.0, Paducah, KY

41. Independence Day Celebration—Boat Parade and Fireworks

Sponsor: Metropolitan Board of Parks and Recreation, Nashville, TN

Date: 1 Day—4th of July

Regulated Area: Cumberland River miles 190.0-191.0, Nashville, TN

42. 4th of July Celebration—Fireworks

Sponsor: Players Riverboat Casino, Metropolis, IL

Date: 1 Day—3rd or 4th of July

Regulated Area: Ohio River miles 943.0-944.0, Metropolis, IL

43. Lottie McAlice Rowing Race

Sponsor: Three Rivers Rowing Association, Pittsburgh, PA

Date: 2 Days—Saturday & Sunday Near July 15

Regulated Area: Allegheny River miles 2.0-3.0, Pittsburgh, PA

44. Rocketman Triathlon—Lake Swim

Sponsor: Spring City Triathletes, Huntsville, AL

Date: 1 Day—2nd or 3rd Saturday in July

Regulated Area: Tennessee River miles 324.0-324.5, Madison County, TN

45. Cross River Swim Paducah Summerfest

Sponsor: Paducah Tourist & Convention Commission

Date: 1 Day—3rd Saturday in July

Regulated Area: Ohio River miles 934.5-936.0, Paducah, KY

46. Oak Ridge Sprints—Rowing Race

Sponsor: Oak Ridge (Tennessee) Rowing Association

Date: 3 Days—3rd Weekend in July

Regulated Area: Clinch River miles 49.8-51.1, Anderson County, TN

47. Summerfest

Sponsor: Tri-State Fair and Regatta

Date: 3rd or 4th Week of July

Regulated Area: Ohio River Mile 307.5-308.5, Huntington ,WV

48. Fitness System's Lock Triathlon—Lake Swim

Sponsor: Greater Knoxville Triathlon Club

Date: 1 Day—4th Weekend in July

Regulated Area: Clinch River miles 22.0—23.0, Loudon County, TN

49. Paducah Summer Festival—Fireworks

Sponsor: Paducah Promotions

Date: 1 Day—4th Weekend In July

Regulated Area: Ohio River miles 934.0-935.0, Paducah, KY

50. Oakmont Regatta

Sponsor: Oakmont Yacht Club, Oakmont, PA

Date: 2 Days—Last Saturday and Sunday in July

Regulated Area: Allegheny River miles 11.8-12.3, Oakmont, PA

51. Pittsburgh Three Rivers Regatta

Sponsor: Pittsburgh Three Rivers Regatta, Inc.

Date: 7 Days—End of July or beginning of August

Regulated Area: One mile around point at confluence of Allegheny River miles 0.0-1.0, Monongahela River miles 0.0—0.2, and Ohio River miles 0.0—0.9, Pittsburgh, PA

52. Beaver County Riverfest

Sponsor: Beaver County Chamber of Commerce, Beaver, PA

Date: 3 Days—Friday, Saturday & Sunday nearest August 15

Regulated Area: Ohio River miles 25.1—25.8, Beaver River miles 0.1-0.3, Beaver County, PA

53. Belpre Ohio Homecoming

Sponsor: Belpre Ohio Chamber of Commerce

Date: 2nd Week of August

Regulated Area: Ohio River Mile 185.5-186.5, Belpre, OH

54. Rumble on the River

Sponsor: Southern Ohio Water Sports

Date: 2nd Week of August

Regulated: Ohio River Mile 355.5-356.5, Portsmouth OH

55. Steubenville (Ohio) Regatta Rumble On The River

Sponsor: Steubenville Regatta And Racing Association, Inc.

Date: 3 Days—Friday, Saturday & Sunday nearest August 15

Regulated Area: Ohio River miles 65.0-67.0, Jefferson County, OH

56. Armstrong County (Pennsylvania) Regatta

Sponsor: Three Rivers Outboard Racing Association

Date: 2 Days—Saturday & Sunday nearest August 15

Regulated Area: Allegheny River miles 43.8-45.7, Armstrong County, PA

57. Parkersburg Homecoming Festival

Sponsor: Parkersburg Homecoming Festival

Date: 2 Days-3rd Weekend in August

Regulated Area: Ohio River miles 184.0-185.0, Parkersburg, WV

58. Kentucky Drag Boat Association Inc.: Drag Boat Races

Sponsor: Kentucky Drag Boat Association Inc.

Date: 3 Days—End of August

Regulated Area: Green River miles 70.0-71.5, Livermore, KY

59. WEBN/Toyota Fireworks

Sponsor: WEBN

Date: 1 Day—Sunday before Labor Day

Regulated Area: Ohio River 469.2-470.5, Cincinnati, OH

60. Charleston Sternwheel Regatta

Sponsor: Charleston Festival Commission

Date: 4 Days—The 2 Weekends before Labor Day

Regulated Area: Kanawha River miles 57.0-59.0, Charleston, WV

61. Aurora APR Power Boat Races

Sponsor: Aurora Riverfront Beautification

Date: August 29

Regulated Area: Ohio River, at approximately mile 496.0-499.0, mid-channel, Aurora, IN

62. Portsmouth River Days

Sponsor: Portsmouth River Days Inc.

Date: 1st Week of September

Regulated Area: Ohio River Mile 355.5-356.5, Portsmouth, OH

63. Ohio River Sternwheel Festival

Sponsor: Ohio River Sternwheel Festival Commission

Date: 2 Days—1st or 2nd Weekend in September

Regulated Area: Ohio River miles 170.0-180.0, Marietta, OH

64. My 102 Booms Day—Fireworks

Sponsor: WMYU Radio, Knoxville, TN

Date: 1 Day—1st Weekend in September

Regulated Area: Tennessee River miles 645.0-649.0, Knoxville, TN

65. Ducks On The Ohio

Sponsor: Goodwill Industries, Inc.

Date: 1 Day—2nd or 3rd Weekend in September

Regulated Area: Ohio River miles 792.0-793.0, Evansville, IN

66. Head of Licking Regatta

Sponsor: Kendle, Cincinnati Rowing Club, City of Newport

Date: 1 Day—Last Saturday in September

Regulated Area: Licking River miles 0.0-3.5, Newport, KY

67. Fleur De Lis Regatta

Sponsor: City of Louisville, KY

Date: 2 Days—Last Weekend in September

Regulated Area: Ohio River miles 602.0-604.0, Louisville, KY

68. Head of The Ohio

Sponsor: Pittsburgh Mercy Foundation

Date: 1 Day—1st Saturday in October

Regulated Area: Allegheny River miles 0.0-4.0, Pittsburgh, PA

69. Chattanooga Head Race—Rowing Race

Sponsor: Look Out Rowing Club

Date: 1 Day—2nd Saturday in October

Regulated Area: Tennessee River miles 464.0-467.0, Chattanooga, TN

70. Head of Tennessee Regatta

Sponsor: Knoxville Rowing Association

Date: 1 Day—2nd Saturday in October

Regulated Area: Tennessee River miles 641.5-645.0, Knoxville, TN

71. City of Pittsburgh Light Up Night Fireworks

Sponsor: Citiparks

Date: 1 Day—1st Friday in November

Regulated Area: Ohio River miles 0.0-0.2, Pittsburgh, PA

72. Light Up Pittsburgh

Sponsor: Kauffmans

Date: 3rd Friday in November

Regulated Area: Ohio River mile 0.0-0.1

73. Christmas on the River—Marine Parade

Sponsor: Chattanooga Downtown Partnership

Date: 1 Day—Last Weekend in November or 1st Weekend in December

Regulated Area: Tennessee River miles 464.0-469.0, Chattanooga, TN

74. First Night Pittsburgh

Sponsor: Forest City Management

Date: One day—31 December

Regulated Area: Ohio River mile 0.0-0.1

Group Lower Mississippi River

1. Memphis in May Canoe & Kayak Race

Sponsor: Outdoors, Inc.

Date: 1 Day—1st or 2nd Saturday in May

Regulated Area: Lower Mississippi River miles 735.5-738.5, Memphis, TN

2. Duckin' Down the River Rubber Duck Race

ponsor: Young Women's Community Guild

Date: 1 Day—1st or 2nd Saturday in May

Regulated Area: Arkansas River miles 308.2-308.6, Fort Smith, AR

3. Memphis in May Sunset Symphony Fireworks Display

Sponsor: Memphis in May International Festival, Inc.

Date: 1 Day—Saturday before Memorial Day

Regulated Area: Lower Mississippi River miles 735.0-736.0, Memphis, TN

4. Riverfest, Little Rock Arkansas

Sponsor: Riverfest, Inc.

Date: 1 Day—Sunday before Memorial Day

Regulated Area: Arkansas River miles 118.8-119.5, Main Street Bridge, Little Rock, AR

5. Riverfest Fireworks Display

Sponsor: Old Fort Riverfest Committee

Date: 1 Day—2nd or 3rd Saturday in June

Regulated Area: Arkansas River miles 297.0—298.0, Fort Smith, AR

6. Fourth of July Fireworks

Sponsor: Memphis Center City Commission

Date: 1 Day—4th of July

Regulated Area: Lower Mississippi River miles 735.5—736.5, Mud Island, Memphis, TN

7. Pops on the River Fireworks Display

Sponsor: Arkansas Democrat-Gazette

Date: 1 Day—4th of July

Regulated Area: Arkansas River miles 118.8—119.5, Main Street Bridge, Little Rock, AR

8. Fourth of July Celebration

Sponsor: Pickwick Landing State Park

Date: 4th of July

Regulated Area: Tennessee River Mile 206.7—209.0, Pickwick Dam, TN

9. Independence Day Celebration

Sponsor: City of Guntersville

Date: 4th of July

Regulated Area: Tennessee River Miles 356.0—360.0, Guntersville, AL

10. Spirit of Freedom Celebration

Sponsor: WLAY Radio

Date: 4th of July

Regulated Area: Tennessee River Mile 255.0—256.5, Sheffield, AL

11. Meat on the River Barbecue Cook-Off Fireworks Display

Sponsor: Meat on the Mississippi

Date: 1 Day—1st Friday or Saturday in August

Regulated Area: Lower Mississippi River miles 847.0—849.0, Caruthersville, MO

12. Budweiser/Jesse Brent Memorial Boat Racing Association

Sponsor: Budweiser/Jesse Brent Memorial Boat Racing Association

Date: 1 Day—Sunday before Labor Day

Regulated Area: Lake Ferguson, Greenville, MS

13. Arkansas National Drag Boat Races

Sponsor: Mid-South Drag Boat Association

Date: 2 Days—Saturday and Sunday before Labor Day

Regulated Area: Lake Langhofer, Arkansas River miles 71.0—71.5, Pine Bluff, AR

14. The Great River Cook-Off Ski Exhibition

Sponsor: North Little Rock Junior League

Date: 2nd Weekend in September

Regulated Area: Arkansas River miles 118.8—119.1, Little Rock, AR

Group Mobile

1. Air Sea Rescue

Sponsor: Gulf Coast Shows

Date: 1st or 2nd Weekend in February

Regulated Area: Mobile River 1/2 mile upriver and 1/2 mile down river from the Mobile Convention Center, Mobile, AL

2. Bass Tournament Weigh-In

Sponsor: Gulf Coast Shows

Date: 2 Days—3rd or 4th Weekend in February

Regulated Area: Mobile River 1/2 mile upriver and 1/2 mile down river from the Mobile Convention Center, Mobile, AL

3. Water Ski Demonstrations

Sponsor: Gulf Coast Shows

Date: 2 Days—3rd or 4th Weekend in February

Regulated Area: Mobile River 1/2 mile upriver and 1/2 mile down river from the Mobile Convention Center, Mobile, AL

4. Mobile Boat and Sportsman Show

Sponsor: Gulf Coast Shows

Date: Last week of February

Regulated Area: Mobile River, 1/2 mile upriver and 1/2 mile down river from the Mobile Convention Center, Lower Mobile River

5. Blessing of the Fleet—Biloxi, MS

Sponsor: St. Michael's Catholic Church

Date: 1 Day—1st or 2nd Sunday in May

Regulated Area: Entire Biloxi Channel, Biloxi, MS

6. Blessing of the Fleet—Bayou La Batre, AL

Sponsor: St. Margaret Church

Date: 1 Day—2nd or 3rd Sunday in May

Regulated Area: Entire Bayou La Batre, Bayou La Batre, AL

7. Annual Krewe of Billy Bowlegs Pirate Festival

Sponsor: Krewe of Billy Bowlegs of Okaloosa County, Inc.

Date: First weekend in June

Regulated Area: Santa Rosa Sound, east of the Brooks Bridge to Fort Walton Yacht Club at Smack Point at the western end of Choctowatchee Bay and Cinco Bayou

8. Independence Day Fireworks, Destin, FL

Sponsor: City of Destin

Date: 1 Day—4th of July

Regulated Area: The entire Destin East Pass Between and Including Buoys 5 to 11, Destin, FL

9. Independence Day Fireworks, Gulf Shores, AL

Sponsor: City of Gulf Shores

Date: 1 Day—4th of July

Regulated Area: 500 yard radius around fireworks platform adjacent to Main Pavilion at Gulf Shore Public Beach, Gulf Shores, AL

10. Independence Day Fireworks, Panama City, FL

Sponsor: US Navy MWR NSWCCSS CP21

Date: 1 Day—4th of July

Regulated Area: 500 yard radius around fireworks platform adjacent to Hathaway Bridge in St. Andrews Bay, Panama City, FL

11. Independence Day Fireworks, Niceville & Valparaiso, FL

Sponsor: Niceville-Valparaiso Bay Chamber of Commerce

Date: 1 Day—4th of July

Regulated Area: Entire Boggy Bayou, Valparaiso, FL

12. Fourth of July Fireworks, Mobile

Sponsor: Mobile Register

Date: 1 Day—4th of July

Regulated Area: 500 feet from the east bank of the Lower Mobile River between latitudes 30-41.34N and 30-41.24N.

13. Flag Day Parade

Sponsor: Warrior River Boating Association

Date: 1 Day—July 5th

Regulated Area: Warrior River Bankhead Lake River miles 368.4-386.4, Cottondale AL

14. Blue Angels Air Show, Pensacola Beach

Sponsor: Naval Air Station, Pensacola, FL

Date: 2nd weekend in July

Regulated Area: A 5 nautical mile radius from a center point located 1500 feet out from the Pensacola Beach shoreline in front of the Pensacola Beach water tank.

15. MWR Fort to Fort Swim

Sponsor: Morale, Welfare and Recreation, Naval Air Station, Pensacola, FL

Date: First weekend in August

Regulated Area: Fort Pickens Pier to Barrancas Beach, crossing the Gulf Intracoastal Water Eay at statute mile 180, between buoys 13, 14, 15, and 16.

16. Annual Labor Day Fireworks

Sponsor: City of Destin, FL

Date: Day of or day before Labor Day

Regulated Area: The entire Destin East Pass Between and Including Buoys 5 to 11, Destin, FL

17. Christmas Afloat, Tuscaloosa, AL

Sponsor: Christmas Afloat, Inc.

Date: 1 Day—2nd or 3rd Weekend in December

Regulated Area: Warrior River miles 338.0-341.0, Tuscaloosa County, AL

Group New Orleans

1. Blessing of The Fleet

Sponsor: Our Lady of Prompt Succor Catholic Church, Golden Meadow, LA

Date: 1 Day—2nd Saturday in May

Regulated Area: Bayou Lafourche in the area between Galliano, LA to the area of downtown Golden Meadow, LA

2. The Blessing of the Fleet and Fireworks Display, Morgan City, LA

Sponsor: LA Shrimp And Petroleum Festival and Fair Assoc., Inc.

Date: 1 Day—Sunday of Labor Day Weekend

Regulated Area: Berwick Bay From Junction of the Lower Atchafalaya River at Morgan City, LA to Berwick Locks Buoy 1 (LLNR 18445)

3. July Fourth Fireworks Display

Sponsor: City of Morgan City, LA

Date: 1 Day—4th of July

Regulated Area: Mile marker 0.0-1.0, Morgan City Port Allen Route

4. Annual Patterson Pirogue Race, Patterson, LA

Sponsor: Rotary Club of Patterson

Date: 1 Day—4th of July

Regulated Area: Lower Atchafalaya River—Jennings Bridge to 1 mile South of Jennings Bridge, Patterson, LA

5. USS KIDD Star Spangled Celebration, Baton Rouge, LA

Sponsor: USS KIDD and Nautical Center

Date: 1 Day—4th of July

Regulated Area: Lower Mississippi River miles 229.4-229.6, Baton Rouge, LA

6. Uncle Sam Jam Fireworks, Alexandria, LA

Sponsor: Champion Broadcasting of Alexandria

Date: 1 Day—4th of July

Regulated Area: Red River, miles 83.0-87.0, Alexandria, LA

7. Monroe Jaycees Fireworks, Monroe, LA

Sponsor: Monroe Jaycees

Date: 1 Day—4th of July

Regulated Area: Ouachita River, miles 164.0-169.0, at the Parish Court House, Monroe, LA

8. Boomtown Casino Fireworks, Harvey, LA

Sponsor: Boomtown Casino

Date: 1 Day—4th of July

Regulated Area: Harvey Canal, miles 3.5-5.5, the entire width of the canal, Harvey, LA

9. Kenner Fireworks, Kenner, LA

Sponsor: City of Kenner

Date: 1 Day—4th of July

Regulated Area: 500 yard radius around fireworks platform in Lake Pontchartrain at Williams Blvd, Kenner, LA

10. Bally's Casino Fireworks, New Orleans, LA

Sponsor: Bally's Casino

Date: 1 Day—4th of July

Regulated Area: 500 yard radius around fireworks platform in Lake

Pontchartrain, 1/4 miles North of Bally's Casino, New Orleans, LA

11. Riverfront Marketing Fireworks, New Orleans, LA

Sponsor: Riverfront Marketing Group

Date: 1 Day—4th of July

Regulated Area: 500 yard radius around fireworks platform adjacent to Woldenburg Park in Mississippi River, New Orleans, LA

12. Annual Hogdown Fireworks, Mandeville, LA

Sponsor: Mr. R. C. Lunn

Date: 1-Day—4th of July

Regulated Area: 500 yard radius around fireworks platform adjacent to intersection of Tangipahoa River and Lake Pontchartrain, Mandeville, LA

13. Riverfront Marketing Fireworks, New Orleans

Sponsor: Jax Brewery

Date: 1 Day—December 31

Regulated Area: 500 yard radius around fireworks platform in Mississippi River adjacent to Woldenburg Park, New Orleans, LA

14. Riverfront Marketing Fireworks, New Orleans

Sponsor: Riverfront Marketing Group

Date: 1 Day—Lundi Gras Day

Regulated Area: 500 yard radius around fireworks platform in Mississippi River adjacent to Algiers Point, New Orleans, LA

Group Galveston

1. Neches River Festival, Beaumont, TX

Sponsor: Neches River Festival, Inc.

Date: 2 Days—3rd Weekend in April

Regulated Area: Neches River from Collier's Ferry Landing to Lawson's Crossing at the end of Pine St. Beaumont, TX

2. Contraband Days Fireworks Display, Lake Charles, LA

Sponsor: Contraband Days Festivities, Inc.

Date: 1 Day—2nd Saturday of May

Regulated Area: 500 foot radius from the fireworks barge in Lake Charles anchored at approximate position 30°13′54″ N-093°13′42″ W, Lake Charles, LA

3. National Safe Boating Week

Sponsor: Houston Power Squadron

Date: Last weekend in May or first weekend in June

Regulated Area: Clear Creek Channel from Light 2 up to, but not including, the South Shore Harbor Marina.

4. Sylvan Beach Fireworks Display, Sylvan Beach, Houston, TX

Sponsor: City of LaPorte

Date: 1 Day—End of June or Early July

Regulated Area: Rectangle Extending 250 feet East, 250 feet West; 1000 feet North, and 1000 feet South, centered around fireworks barge at Sylvan Beach, Houston, TX

5. Neches River 4th of July Celebration, Beaumont, Texas

Sponsor: City of Beaumont

Date: 1 Day—4th of July

Regulated Area: River Front Park, Beaumont, TX—All waters of the Neches River, bank to bank, from the Trinity Industries Dry Dock to the northeast corner of the Port of Beaumont's dock No. 5

6. Clear Lake Fireworks Display, Clear Lake, Houston, TX

Sponsor: Clear Lake Chamber of Commerce

Date: 1 Day—4th of July

Regulated Area: Rectangle extending 500 feet East, 500 feet West; 1000 feet North, and 1000 feet South, centered around fireworks barge at Light #19 on Clear Lake, Houston, TX

7. Blessing of the Fleet

Sponsor: Clear Lake Elks Club

Date: First Sunday in August

Regulated Area: Clear Creek Channel from Light 2 up to, but not including, the South Shore Harbor Marina.

8. Galveston Harbor Lighted Boat Parade

Sponsor: Historic Downtown/Strand Partnership

Date: Last Saturday in November

Regulated Area: Galveston Channel from Pier 9 to the Pelican Island Bridge

9. Christmas on the Neches River, Port Neches Park

Sponsor: Port Neches Chamber of Commerce

Date: 1 Day—1st Saturday in December

Regulated Area: The areas of the Neches River from Neches River light 26 to Neches River light 30, Neches River Front Park, Port Neches, TX

10. Christmas Boat Parade on Clear Lake

Sponsor: Clear Lake Area Chamber of Commerce

Date: 2nd Saturday in December

Regulated Area: Clear Lake, Texas. From South Shore Harbor Marina down Clear Lake Channel, to Clear Creek Channel Light 2.

Group Corpus Christi

1. Buccaneer Days Fireworks Display

Sponsor: Buccaneer Commission, Inc.

Date: 1 Day—Last Friday in April or First Friday in May

Regulated Area: Bayfront, All Waters inside Corpus Christi Marina Levee, Corpus Christi Bay, TX

2. SPI Windsurf Blowout

Sponsor: South Padre Island Convention and Visitors Bureau

Date: 2 Day—First Saturday and Sunday in May

Regulated Area: Rectangle extending one mile East, Half mile North and Half mile South from Position 26-08N, 97-10.5W, in the Laguna Madre area known as “The Flats”, South Padre Island, TX

3. Corpus Christi 4th of July Fireworks Display

Sponsor: City of Corpus Christi

Date: 1 Day—4th of July

Regulated Area: Bayfront, All Waters inside Corpus Christi Marina Levee, Corpus Christi Bay, TX

4. City of Port Aransas 4th of July Fireworks Display

Sponsor: City of Port Aransas

Date: 1 Day—4th of July

Regulated Area: 600 foot radius from a point half way between Port Aransas Harbor Daybeacon 2 to Port Aransas Ferry landing in the Corpus Christi Ship Channel, Port Aransas, TX

5. Bayfest Fireworks Display

Sponsor: Bayfest, Inc.

Date: 2 Days—3rd Friday & Saturday in September

Regulated Area: Bayfront, All Waters inside Corpus Christi Marina Levee, Corpus Christi Bay, TX

6. Great Tugboat Challenge

Sponsor: Bayfest Inc.

Date: 2 Days—3rd Friday & Saturday in September

Regulated Area: Bayfront, All Waters inside Corpus Christi Marina Levee, Corpus Christi Bay, TX

7. Harbor Lights

Sponsor: City of Corpus Christi

Date: 1 Day—1st Saturday in December

Regulated Area: Bayfront, All Waters inside Corpus Christi Marina Levee, Corpus Christi Bay, TX

Dated: April 10, 2000.
Paul J. Pluta,
Rear Admiral, U.S. Coast Guard Commander, Eighth Coast Guard District.

[FR Doc. 00-10605 Filed 4-27-00; 8:45 am]

BILLING CODE 4910-15-P